SECURITIES AND EXCHANGE COMMISSION

Sunshine Act Meeting

Notice is hereby given, pursuant to the provisions of the Government in the Sunshine Act, Pub. L. 94-409, that the Securities and Exchange Commission will hold the following meeting during the week of October 25, 2004:

An Open Meeting will be held on Tuesday, October 26, 2004, at 10 a.m., in Room 1C30, the William O. Douglas Room.

The subject matter of the Open Meeting scheduled for Tuesday, October 26, 2004 will be:

1. The Commission will consider whether to propose new and amended rules and form changes to modify the registration, communications, and offering processes under the Securities Act of 1933 (“Securities Act”). In addition, the proposals would seek to ensure more timely investment information to investors without mandating delays in the offering process and would further integrate disclosure processes under the Securities Act and the Securities Exchange Act of 1934. The proposals would address communications related to registered securities offerings, delivery of information to investors, and procedural restrictions in the offering and capital formation process.

For further information, please contact Amy M. Starr, Consuelo Hitchcock, Andrew Thorpe, Daniel Horwood, or Anne Nguyen, in the Division of Corporation Finance, at (202) 824-5300.

2. The Commission will consider whether to adopt rule 203(b)(3)-2 under the Investment Advisers Act of 1940 to require hedge fund advisers to register with the Commission. The Commission also will consider whether to adopt certain conforming and transitional amendments to rules 203(b)(3)-1, 203A-3, 204-2, 205-3, 206(4)-2, 222-2 and Form ADV.

For further information, please contact Vivien Liu, Senior Counsel, in the Division of Investment Management, at (202) 942-0719.

At times, changes in Commission priorities require alterations in the scheduling of meeting items. For further information and to ascertain what, if any, matters have been added, deleted or postponed, please contact:

The Office of the Secretary at (202) 942-7070.

Dated: October 19, 2004.
Jonathan G. Katz,
Secretary.

[FR Doc. 04-23680 Filed 10-19-04; 11:34 am]

BILLING CODE 8010-01-P